DEPARTMENT OF ENERGY

Federal Energy Regulatory Commission

Combined Notice of Filings #1

Take notice that the Commission received the following electric corporate filings:

Docket Numbers: EC24-36-000.

Applicants: Innovative Solar 42, LLC.

Description: Application for Authorization Under Section 203 of the Federal Power Act of Innovative Solar 42, LLC.

Filed Date: 1/5/24.

Accession Number: 20240105-5205.

Comment Date: 5 p.m. ET 1/26/24.

Take notice that the Commission received the following electric rate filings:

Docket Numbers: ER23-883-001; ER21-1519-006; ER19-2269-009; ER21-1682-006; ER10-1852-080; ER21-254-008; ER16-1354-015; ER10-1971-036; ER10-1951-056; ER11-4462-079; ER10-2641-046; ER19-2266-009; ER21-1532-006; ER16-1913-013; ER21-1506-007; ER19-774-011; ER21-255-008; ER16-1293-016; ER16-1277-016.

Applicants: White Pine Solar, LLC, White Oak Solar, LLC, Taylor Creek Solar, LLC, Stanton Clean Energy, LLC, Shaw Creek Solar, LLC, River Bend Solar, LLC, Quitman II Solar, LLC, Quitman Solar, LLC, Oleander Power Project, Limited Partnership, NEPM II, LLC, NextEra Energy Services Massachusetts, LLC, NextEra Energy Power Marketing, LLC, Live Oak Solar, LLC, Harmony Florida Solar, LLC, Florida Power & Light Company, Elora Solar, LLC, Dougherty County Solar, LLC, Cool Springs Solar, LLC, Bell Ridge Solar, LLC.

Description: Amendment to June 30, 2023, Triennial Market Power Analysis for Southeast Region of Bell Ridge Solar, LLC, et. al.

Filed Date: 1/5/24.

Accession Number: 20240105-5213.

Comment Date: 5 p.m. ET 1/26/24.

Docket Numbers: ER24-81-001.

Applicants: Shady Oaks Wind 2, LLC.

Description: Compliance filing: Compliance Filing to Order.

Filed Date: 1/8/24.

Accession Number: 20240108-5068.

Comment Date: 5 p.m. ET 1/29/24.

Docket Numbers: ER24-266-001.

Applicants: Solar of Alamosa LLC.

Description: Tariff Amendment: Supplement to Petition for Market-Based Rate Authorization to be effective 11/1/2023.

Filed Date: 1/8/24.

Accession Number: 20240108-5121.

Comment Date: 5 p.m. ET 1/29/24.

Docket Numbers: ER24-627-000.

Applicants: Mammoth North LLC.

Description: Notice of Market-Based Rate Authorization of Mammoth North LLC.

Filed Date: 1/2/24.

Accession Number: 20240102-5467.

Comment Date: 5 p.m. ET 1/23/24.

Docket Numbers: ER24-827-000.

Applicants: Grace Orchard Energy Center, LLC.

Description: Baseline eTariff Filing: Grace Orchard Energy Center, LLC Application for MBR Authorization to be effective 1/6/2024.

Filed Date: 1/5/24.

Accession Number: 20240105-5177.

Comment Date: 5 p.m. ET 1/26/24.

Docket Numbers: ER24-828-000.

Applicants: Southwest Power Pool, Inc.

Description: 205(d) Rate Filing: 3951R1 Kiowa County Solar Project GIA to be effective 12/18/2023.

Filed Date: 1/8/24.

Accession Number: 20240108-5051.

Comment Date: 5 p.m. ET 1/29/24.

Docket Numbers: ER24-829-000.

Applicants: New York Independent System Operator, Inc., Niagara Mohawk Power Corporation.

Description: 205(d) Rate Filing: New York Independent System Operator, Inc. submits tariff filing per 35.13(a)(2)(iii): NYISO-National Grid Joint 205: Amnd LGIA for High River Solar Project SA2682 to be effective 12/21/2023.

Filed Date: 1/8/24.

Accession Number: 20240108-5061.

Comment Date: 5 p.m. ET 1/29/24.

Docket Numbers: ER24-830-000.

Applicants: PJM Interconnection, L.L.C.

Description: 205(d) Rate Filing: Amendment to WMPA, Service Agreement No. 6114; Queue No. AD1-129 to be effective 3/9/2024.

Filed Date: 1/8/24.

Accession Number: 20240108-5109.

Comment Date: 5 p.m. ET 1/29/24.

Docket Numbers: ER24-831-000.

Applicants: PJM Interconnection, L.L.C.

Description: 205(d) Rate Filing: Amendment to ISA, Service Agreement No. 5071; Queue No. AB1-132 to be effective 3/9/2024.

Filed Date: 1/8/24.

Accession Number: 20240108-5143.

Comment Date: 5 p.m. ET 1/29/24.

Docket Numbers: ER24-832-000.

Applicants: RWE Trading Americas Inc.

Description: Baseline eTariff Filing: Application for Market Based Rate Authority to be effective 2/22/2024.

Filed Date: 1/8/24.

Accession Number: 20240108-5163.

Comment Date: 5 p.m. ET 1/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 8, 2024.
Debbie-Anne A. Reese,
Acting Secretary.

[FR Doc. 2024-00602 Filed 1-12-24; 8:45 am]

BILLING CODE 6717-01-P